DEPARTMENT OF ENERGY

Amended Notice of Intent To Prepare the Hawai'i Clean Energy Programmatic Environmental Impact Statement

AGENCY: Department of Energy (DOE).

ACTION: Amended Notice of Intent (NOI) to prepare a Programmatic Environmental Impact Statement (PEIS).

SUMMARY: In 2010, DOE announced its intent to prepare a PEIS for the Hawai'i Interisland Renewable Energy Program (HIREP): Wind (DOE/EIS-0459) (HIREP: Wind PEIS). In response to public scoping comments on the HIREP: Wind PEIS, as well as regulatory and policy developments since the scoping meetings, DOE proposes to broaden the range of energy efficiency and renewable energy activities and technologies to be analyzed in the PEIS and, accordingly, has renamed it the Hawai'i Clean Energy PEIS. DOE's proposal will involve the development of guidance to use in future funding decisions and other actions to support Hawai'i in achieving the goal established in the Hawai'i Clean Energy Initiative (HCEI) to meet 70% of the State's energy needs by 2030 through energy efficiency and renewable energy. Achieving the HCEI goal could involve a diverse range of activities. Accordingly, this PEIS will analyze the potential environmental impacts of activities in the following clean energy categories: (1) Energy Efficiency, (2) Distributed Renewables, (3) Utility-Scale Renewables, (4) Alternative Transportation Fuels and Modes, and (5) Electrical Transmission and Distribution. The State of Hawai'i and the U.S. Department of the Interior's Bureau of Ocean Energy Management (BOEM) are cooperating agencies in preparing this PEIS.

DATES: DOE invites public comment on the scope of the PEIS during a 60-day public scoping period ending on October 9, 2012. See Public Participation: Scoping, EIS Distribution, Schedule in the SUPPLEMENTARY INFORMATION section below for public scoping meeting dates and locations. DOE will consider all comments received or postmarked by the end of the scoping period, and will consider comments received or postmarked after the ending date to the extent practicable.

ADDRESSES: Written comments on the scope of the PEIS or a request to be added to the PEIS distribution list may be submitted as follows:

• Email to hawaiicleanenergypeis@ee.doe.gov.

• Electronic comments via the PEIS Web site at http://www.hawaiicleanenergypeis.com.

• Facsimile (fax) to (808) 541-2253. Attention: Hawai'i Clean Energy PEIS.

• U.S. mail to Jim Spaeth, U.S. Department of Energy, 300 Ala Moana Blvd., P.O. Box 50247, Honolulu, HI 96850-0247.

FOR FURTHER INFORMATION CONTACT: For information on DOE's proposed action, contact Jane Summerson, Ph.D., DOE National Environmental Policy Act (NEPA) Document Manager, Office of Energy Efficiency and Renewable Energy, U.S. Department of Energy, 1000 Independence Avenue SW., Washington, DC 20585, or Jim Spaeth, U.S. Department of Energy, 300 Ala Moana Blvd., P.O. Box 50247, Honolulu, HI 96850-0247, or send an email to hawaiicleanenergypeis@ee.doe.gov. Information on the Hawai'i Clean Energy PEIS is available on the PEIS Web site at http://www.hawaiicleanenergypeis.com and at the public libraries listed under Public Participation: Scoping, EIS Distribution, Schedule in the SUPPLEMENTARY INFORMATION section below.

For general information about the DOE NEPA process, contact Carol Borgstrom, Director, Office of NEPA Policy and Compliance (GC-54), U.S. Department of Energy, 1000 Independence Avenue SW, Washington, DC 20585, or (800) 472-2756 or askNEPA@hq.doe.gov.

SUPPLEMENTARY INFORMATION:

1. Background

DOE and the State of Hawai'i Coordination and Collaboration

DOE and Hawai'i entered into a Memorandum of Understanding (MOU) in January 2008 that established a long-term partnership to transform the way in which energy efficiency and renewable energy resources are planned and used in the State. The MOU established working groups to address key sectors of the energy economy (e.g., electricity, end-use efficiency, transportation, and fuels), which led to the establishment of the HCEI. The goal of the HCEI is to meet 70% of Hawai'i's energy needs by 2030 through energy efficiency and renewable energy (collectively “clean energy”).

To support this goal, in 2009, Hawai'i's legislature established a Renewable Portfolio Standard of 15% by 2015, 25% by 2020, and 40% by 2030. [See Haw. Rev. Stat. Sections 269-91 to 296-95 (2012) and Haw. Rev. Stat. Section 196 (2012).] Hawai'i also has established an Energy Efficiency Portfolio Standard that calls for the statewide reduction in electricity use of 4,300 gigawatt hours via efficiency measures by 2030. [Haw. Rev. Stat. Section 269-96 (2012).]

Meanwhile, DOE has helped advance Hawai'i's clean energy goals by providing technical research and analysis, direct staff involvement, competitive solicitations, and funding. For example, DOE has provided funding for distributed photovoltaics on O'ahu and Maui; a wind farm on O'ahu; smart grid projects on Maui and Kaua'i; electric vehicle public charging networks; efficient appliance rebates; solar water heating rebates; and low-interest loans. Also, in accordance with Section 355 of the Energy Policy Act of 2005, DOE assessed the economic implications of Hawai'i's dependence on oil as a principal source of energy, including the technical and economic feasibility of increasing the use of renewable energy resources for the generation of electricity on an island-by-island basis. The report concluded that Hawai'i has many opportunities to diversify energy use through greater utilization of renewable energy for electricity and transportation applications.¹

¹U.S. Department of Energy. Assessment of Dependence of State of Hawaii on Oil. (December 2008); available at http://hawaiicleanenergypeis.com/wp-content/uploads/2012/07/Hawaii_Oil_Dependency.pdf.

2010 Notice of Intent for the HIREP: Wind PEIS

On December 14, 2010, DOE issued a NOI to prepare a PEIS, with the State of Hawai'i as a joint lead, on the wind phase of the Hawai'i Interisland Renewable Energy Program (75 FR 77859). That NOI referred to the PEIS as the HIREP: Wind PEIS. Scoping meetings were held in Honolulu, Kahului, Kaunakakai, and Lāna'i City in February 2011. Commenters expressed concern that DOE and the State would not analyze energy efficiency measures, distributed renewable energy, or the full range of potential renewable energy technologies. Commenters also expressed concern about the construction of interisland electricity transmission connection(s) and cable(s), the potential disparity of impacts on islands that could host wind development projects versus those that would use the electricity, and potential impacts to cultural resources, among other issues. In light of these comments, as well as regulatory and policy developments since the scoping meetings, DOE consulted with the State and decided to broaden the range of energy efficiency and renewable energy activities and technologies to be analyzed in the PEIS. In preparing the PEIS, DOE will consider scoping comments already received on the initial NOI, along with comments received in response to this amended NOI.

2. Environmental Review Process

The Hawai'i Clean Energy PEIS will be prepared pursuant to the National Environmental Policy Act (NEPA), as amended, the Council on Environmental Quality (CEQ) NEPA regulations (40 CFR Parts 1500 through 1508), and the DOE NEPA implementing procedures (10 CFR Part 1021). The PEIS also will consider, among other regulatory items, the requirements of the Hawai'i Environmental Policy Act (Hawai'i Revised Statutes [HRS] chapter 343).

DOE invites Federal, State, and local government agencies, Native Hawaiian and other organizations, and members of the public to submit comments and participate in public meetings on the scope of the PEIS—that is, the proposed action, the range of reasonable alternatives, and potential environmental impacts and other issues to be considered. DOE also invites government agencies with jurisdiction by law or special expertise to be cooperating agencies in EIS preparation. The State of Hawai'i and BOEM have agreed to be cooperating agencies.

The PEIS will not eliminate the need for project-specific environmental review of individual projects or activities that may be eligible for funding or other support by DOE. To the extent that DOE proposes to fund or undertake particular projects or activities that may fall within the scope of the PEIS, project-specific NEPA review for such projects and activities is expected to be tiered from the PEIS and to be more effective and efficient because of the PEIS. Moreover, such projects and activities will be subject to compliance with obligations under other environmental laws such as the Endangered Species Act and National Historic Preservation Act.

3. DOE Purpose and Need for Agency Action

DOE's purpose and need for agency action is based on the 2008 MOU with Hawai'i that established a long-term partnership to transform the way in which energy efficiency and renewable energy resources are planned and used in the State. Consistent with this MOU, DOE's purpose and need is to support the State in its efforts to meet 70% of the State's energy needs by 2030 through clean energy.

4. DOE's Proposed Action

DOE's proposed action is to develop guidance that it can use in making decisions about future funding or other actions to support Hawai'i in achieving the goal established in the HCEI to meet 70% of the State's energy needs by 2030 through energy efficiency and renewable energy. For purposes of this PEIS, DOE has divided these potential future actions into five clean energy categories and will analyze, at a programmatic level, the potential environmental impacts of future DOE actions that would fall within these categories and be subject to DOE's proposed guidance.

Energy Efficiency

Buildings (new construction and retrofits)

Energy Conservation

Ground Source Heat Pumps

Initiatives and Programs (e.g., tax incentives and rebates)

Sea Water Cooling

Solar Water Heating

Distributed Renewables

Biomass (small systems)

Hydroelectric (small systems)

Hydrogen Fuel Cells

Solar Photovoltaic Panels

Wind (small systems)

Utility-Scale Renewables

Biomass Geothermal

Hydroelectric

Municipal Solid Waste (including landfill gas)

Ocean Energy (wave and tidal)

Ocean Thermal Energy Conversion

Solar Photovoltaic Arrays

Solar Thermal Systems

Wind (land-based)

Wind (offshore)

Alternative Transportation Fuels and Modes

Biofuels

Electric Vehicles

Hybrid Electric Vehicles

Hydrogen

Liquefied Natural Gas

Mass Transportation

Electrical Transmission and Distribution

On Island Transmission

Land/Sea Cable Transition Sites

Undersea Cable Corridors

Smart Grid

Energy Storage

The PEIS will analyze the potential environmental impacts of only those clean energy activities and technologies that are eligible under Hawai'i's Renewable Portfolio Standard or Energy Efficiency Portfolio Standard. It will analyze these potential impacts, as appropriate, on an island-by-island basis for the islands of Hawai'i, Kaua'i, Lāna'i, Maui, Moloka'i, and O'ahu. The PEIS will build upon the environmental and technical studies and public comments and outreach conducted to date.

The energy efficiency activities and renewable energy technologies and resources available in Hawai'i, including distributed and utility-scale renewable energy, vary by island and in commercial availability and economic viability. Furthermore, as in all utility systems, Hawai'i's ability to incorporate clean energy into individual island grids can be limited by the capacity of the power transmission system. Thus, DOE will consider several factors in determining the appropriate level of detail for analyzing the potential environmental impacts of each form of clean energy in the PEIS. These factors may include the potential to make a timely contribution to the HCEI goal; stage of technical development; commercial availability; and potential for significant environmental impacts. Similarly, DOE will consider the conditions on an individual island to help determine the appropriate level of detail for analysis of potential impacts on that island. In other words, the PEIS will not assume that each energy efficiency activity or renewable energy technology has the same potential for use on each island or that it would result in the same potential environmental impacts on each island.

The PEIS may identify (a) general geographical areas suitable for development of renewable energy resources, (b) combinations of energy efficiency activities and renewable energy technologies that may be both feasible and efficient in helping Hawai'i meet its HCEI goal, and (c) selection criteria and priorities that DOE could consider when reviewing project-specific proposals. In addition, the PEIS will provide information needed to consider the potential environmental impacts from clean energy activities and technologies. As a result, DOE will have information relevant to prioritizing future funding or other decisions. This could help DOE avoid redundancies and inefficiencies in future project development and decision-making.

The PEIS also will analyze, as connected actions or for cumulative impacts, on-going and reasonably foreseeable actions by other entities that could contribute to meeting Hawai'i's clean energy goals. Such energy efficiency and renewable energy actions could be proposed or undertaken by other federal agencies, state or local government agencies, or private parties.

No-Action Alternative

Under the no-action alternative, DOE would continue to support, through funding and other actions, Hawai'i in meeting the HCEI goal on a case-by-case basis, but without guidance to integrate and prioritize funding decisions and other actions.

5. Preliminary Identification of Environmental Issues

The PEIS will evaluate the full range of potential environmental, including cultural and socioeconomic, impacts associated with implementing clean energy activities and technologies on the islands of Hawai'i, Kaua'i, Lāna'i, Maui, Moloka'i, and O'ahu.

The following environmental resource areas have been tentatively identified for consideration in the EIS:

• Cultural and historical resources.

• Air quality (including climate change and greenhouse gas emissions).

• Water resources.

• Floodplains and wetlands.

• Coastal zone management.

• Geology and soils.

• Land and submerged land use.

• Biological resources (including threatened and endangered species, special status species, and related sensitive resources).

• Land and marine transportation.

• Airspace management.

• Public health and safety.

• Noise.

• Natural hazards.

• Hazardous materials and waste management.

• Accidents and intentional destructive acts.

• Recreational resources.

• Visual resources.

• Socioeconomics.

• Environmental justice (disproportionately high and adverse impacts to minority and low-income populations).

• Utilities and infrastructure.

• Cumulative impacts (past, present, and reasonably foreseeable future actions).

• Irreversible and irretrievable commitments of resources.

6. Public Participation: Scoping, EIS Distribution, Schedule

Public scoping meetings will be conducted at the following times and locations:

• September 11, 2012, 5:00-8:30 p.m. at O'ahu, McKinley High School, 1039 South King Street, Honolulu, HI 96814

• September 12, 2012, 5:30-9:00 p.m. at Kaua'i, Kaua'i War Memorial Convention Hall, 4191 Hardy Street, Lihue, HI 96766

• September 13, 2012, 5-8:30 p.m. at Hawai'i, Kealakehe High School, 74-5000 Puohulihuli Street, Kailua-Kona, HI 96740

• September 14, 2012, 5-8:30 p.m. at Hawai'i, Hilo High School, 556 Waianuenue Avenue, Hilo, HI 96720

• September 17, 2012, 5:30-9 p.m. at Maui, Pomaika'i Elementary School, 4650 South Kamehameha Avenue, Kahului, HI 96732

• September 18, 2012, 5-8:30 p.m. at Lāna'i, Lāna'i High & Elementary School, 555 Fraser Avenue, Lanai City, HI 96763

• September 19, 2012, 5:30-9 p.m. at Molokai, Mitchell Pau`ole Community Center, 90 Ainoa Street, Kaunakakai, Molokai, HI 96748

• September 20, 2012, 5-8:30 p.m. at O'ahu, James B. Castle High School, 45-386 Kaneohe Bay Drive, Kaneohe, HI 96744

Each scoping meeting will involve: a presentation that describes the NEPA process and the concept of a Programmatic EIS; a question and answer session; and a formal commenting session, which will be transcribed by a court reporter to ensure that all comments are available to DOE for consideration during preparation of the draft PEIS. The meetings will provide opportunities to view exhibits on potential clean energy approaches, ask questions, and submit comments orally or in writing. Representatives from DOE, Hawai'i, BOEM, and any other involved agencies will be available to answer questions and provide additional information to participants. Individuals who submit comments during the scoping process and provide their contact information will receive copies of the draft PEIS. The format of the draft PEIS provided could be a printed summary and CD of the complete document, a CD of the document, Web site access to the document, or a complete printed document, according to the commenter's format preference. Persons who do not submit comments during scoping, but would like to receive a copy of the draft PEIS when it is issued, should submit a request as provided in the ADDRESSES section and specify their format preference.

Information on the Hawai'i Clean Energy PEIS is available on the PEIS Web site at http://www.hawaiicleanenergypeis.com. Materials relating to this PEIS also will be available at the public libraries listed below and several additional public libraries across the State of Hawai'i (for a complete list, see the PEIS Web site):

• Hawai'i State Library, 478 South King Street, Honolulu, HI 96813.

• Lāna'i Public and School Library, 555 Fraser Ave, Lāna'i City, HI 96763.

• Wailuku Public Library, 251 High Street, Wailuku, HI 96793.

• Moloka`i Public Library, 15 Ala Malama, Kaunakakai, HI 96748.

• Hilo Public Library, 300 Waianuenue Ave, Hilo, HI 96720.

• Kailua-Kona Public Library, 75-138 Hualalai Road, Kailua-Kona, HI 96740.

• Lihu`e Public Library, 4344 Hardy Street, Lihu`e, HI 96766.

In preparing the draft PEIS, DOE will consider comments received during the scoping period and will consider late comments to the extent practicable. DOE plans to issue the draft PEIS in 2013. The U.S. Environmental Protection Agency (EPA) will publish a Notice of Availability (NOA) of the draft PEIS in the Federal Register, which will begin a minimum 45-day public comment period. DOE will announce how to comment on the draft PEIS and will hold public hearings during the public comment period, but no sooner than 15 days after the NOA of the draft PEIS is published.

In preparing the final PEIS, DOE will respond to comments received on the draft PEIS. DOE plans to issue the final PEIS in 2014. No sooner than 30 days after EPA publishes a NOA of the final PEIS, DOE may issue its Record of Decision regarding its actions considered in the PEIS.

Issued in Washington, DC, on August 3, 2012.
Patricia Hoffman,
Assistant Secretary for Electricity Delivery and Energy Reliability.

[FR Doc. 2012-19647 Filed 8-9-12; 8:45 am]

BILLING CODE 6450-01-P